DEPARTMENT OF THE INTERIOR

National Park Service

[NPS-WASO-NAGPRA-NPS0028571; PPWOCRADN0-PCU00RP14.R50000]

Notice of Inventory Completion: U.S. Department of the Interior, National Park Service, Natchez Trace Parkway, Tupelo, MS

AGENCY: National Park Service, Interior.

ACTION: Notice.

SUMMARY: The U.S. Department of the Interior, National Park Service, Natchez Trace Parkway has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to Natchez Trace Parkway. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to Natchez Trace Parkway at the address in this notice by September 16, 2019.

ADDRESSES: Mary Risser, Superintendent, Natchez Trace Parkway, 2680 Natchez Trace Parkway, Tupelo, MS 38804, telephone (662) 680-4005, email mary_risser@nps.gov.

SUPPLEMENTARY INFORMATION: Notice is here given in accordance with the Native American Graves Protection and Repatriation Act (NAGPRA), 25 U.S.C. 3003, of the completion of an inventory of human remains and associated funerary objects under the control of the U.S. Department of the Interior, National Park Service, Natchez Trace Parkway, Tupelo, MS. The human remains and associated funerary objects were removed from sites in Hickman and Maury Counties, TN, and Colbert County, AL.

This notice is published as part of the National Park Service's administrative responsibilities under NAGPRA, 25 U.S.C. 3003(d)(3) and 43 CFR 10.11(d). The determinations in this notice are the sole responsibility of the Superintendent, Natchez Trace Parkway.

Consultation

A detailed assessment of the human remains was made by Natchez Trace Parkway professional staff in consultation with representatives of the Cherokee Nation, The Chickasaw Nation, The Seminole Nation of Oklahoma, and the United Keetoowah Band of Cherokee Indians in Oklahoma. The Eastern Band of Cherokee Indians were invited to consult but did not participate.

History and Description of the Remains

In 1983 and 1984, human remains representing, at minimum, six individuals were removed from the South Cave site in Colbert County, AL, during a survey conducted by the University of Mississippi under contract with the National Park Service. No known individuals were identified. No associated funerary objects are present.

In 1984, human remains representing, at minimum, one individual were removed from the Baker's Knoll site in Hickman County, TN, during archeological testing and survey. No known individuals were identified. No associated funerary objects are present.

In 1984 and 1985, human remains representing, at minimum, 108 individuals were removed from the OldRoy site in Hickman County, TN, during excavations by the University of Tennessee for the National Park Service. No known individuals were identified. The 130 associated funerary objects are 22 projectile points, three bags of ochre pigment, five bifaces, 10 preforms, five limestone/fossil beads, one siltstone bead, six flakes, four flake tools, four abraders, two gorget fragments, one gorget, two steatite bowls, two cores, two knives, two steatite vessel fragments, one celt, one drill, one scraper, one sandstone pipe, 29 worked bones/antlers, 13 awls, nine punches, two beamers, and two faunal tooth fragments.

In 1984 and 1985, human remains representing, at minimum, 34 individuals were removed from the Fattybread Branch site in Maury County, TN, during excavations by the University of Tennessee for the National Park Service. No known individuals were identified. The 52 associated funerary objects are two projectile points, one bannerstone, 43 worked animal bones, five animal bones, and one bag of animal bone.

Determinations Made by Natchez Trace Parkway

Officials of Natchez Trace Parkway have determined that:

• Pursuant to 25 U.S.C. 3001(9), the human remains described in this notice are Native American based on removal from known Native American sites.

• Pursuant to 25 U.S.C. 3001(9), the human remains described in this notice represent the physical remains of 149 individuals of Native American ancestry.

• Pursuant to 25 U.S.C. 3001(3)(A), the 182 objects described in this notice are reasonably believed to have been placed with or near individual human remains at the time of death or later as part of the death rite or ceremony. The National Park Service intends to convey the associated funerary objects to the Tribes pursuant to 54 U.S.C. 102503(g) through (i) and 54 U.S.C. 102504.

• Pursuant to 25 U.S.C. 3001(2), a relationship of shared group identity cannot be reasonably traced between the Native American human remains and associated funerary objects and any present-day Indian Tribe.

• According to final judgments of the Indian Claims Commission or the Court of Federal Claims, the land from which the Native American human remains and associated funerary objects were removed is the aboriginal land of the Cherokee Nation, Eastern Band of Cherokee Indians, and United Keetoowah Band of Cherokee Indians in Oklahoma.

• Treaties, Acts of Congress, or Executive Orders, indicate that the land from which the Native American human remains and associated funerary objects were removed is the aboriginal land of the Cherokee Nation, Eastern Band of Cherokee Indians, The Chickasaw Nation, and United Keetoowah Band of Cherokee Indians in Oklahoma.

• Pursuant to 43 CFR 10.11(c)(1), the disposition of the human remains and associated funerary objects may be to the Cherokee Nation, Eastern Band of Cherokee Indians, The Chickasaw Nation, and United Keetoowah Band of Cherokee Indians in Oklahoma.

Additional Requestors and Disposition

Representatives of any Indian Tribe or Native Hawaiian organization not identified in this notice that wish to request transfer of control of these human remains and associated funerary objects should submit a written request with information in support of the request to Mary Risser, Superintendent, Natchez Trace Parkway, 2680 Natchez Trace Parkway, Tupelo, MS 38804, telephone (662) 680-4005, email mary_risser@nps.gov, by September 16, 2019. After that date, if no additional requestors have come forward, transfer of control of the human remains and associated funerary objects to the Cherokee Nation, Eastern Band of Cherokee Indians, The Chickasaw Nation, and United Keetoowah Band of Cherokee Indians in Oklahoma may proceed.

Natchez Trace Parkway is responsible for notifying the Cherokee Nation, Eastern Band of Cherokee Indians, The Chickasaw Nation, The Seminole Nation of Oklahoma, and United Keetoowah Band of Cherokee Indians in Oklahoma that this notice has been published.

Dated: July 25, 2019.
Melanie O'Brien,
Manager, National NAGPRA Program.

[FR Doc. 2019-17553 Filed 8-14-19; 8:45 am]

BILLING CODE 4312-52-P